Proclamation 10267 of September 30, 2021

National Arts and Humanities Month, 2021

By the President of the United States of America

A Proclamation

As our Nation continues to grapple with consequential crises—from combating the ongoing global pandemic and addressing cries for racial justice to tackling the existential threat that climate change poses to our planet—the arts and humanities enable us to both understand our experiences and lift our sights. During this National Arts and Humanities Month, we celebrate the power of the arts and humanities to provide solace, understanding, and healing. We recognize the ability of the arts and humanities to amplify important and diverse voices and messages. We reflect on the fact that, as we have struggled with isolation, anxiety, and the loss of loved ones, we have turned to music and dance, literature and poetry, and philosophy and history to bring us together and help us persevere through, and grapple with, our current moment.

From our Nation's earliest days, we have recognized the arts as a foundation of our Republic. As George Washington wrote in 1781, “The arts and sciences [are] essential to the prosperity of the State and to the ornament and happiness of human life.” Today, any American—regardless of their background—can create art and turn to it for hope, acceptance, and inspiration. The arts and humanities have united us as a Nation—from the television programs we watch to the books and exhibits that inspire us—providing a sense of community when we need it most.

The COVID-19 pandemic has devastated our creative sectors. Before the pandemic, our Nation's arts and culture sectors were strong and vibrant—a nearly $1 trillion industry employing over 5 million Americans. But as the pandemic canceled events and closed theatres, concert halls, and performance venues, the unemployment rates for the cultural community spiked to among the highest in the Nation. Many museums, libraries, and arts venues closed their curtains and doors, some for a final time. For our Nation to fully recover and heal, we need the creative economy and our cultural sector to recover.

My Administration recognizes the essential role the arts and humanities play in our Nation's economy, democracy, health, and vitality and is committed to supporting the arts community. That is why my American Rescue Plan added another $1.25 billion in funding for the Shuttered Venues Operators Grant through the Small Business Administration, for a total of $16.25 billion. This critical program continues to provide much-needed relief to music and arts venues. My American Rescue Plan also provided an additional $135 million each for the National Endowment for the Arts (NEA) and the National Endowment for the Humanities (NEH) and $200 million for the Institute of Museum and Library Services (IMLS). My proposed budget for Fiscal Year 2022 also includes significant funding increases for the NEA, NEH, and IMLS. Collectively, these funds will help put people back to work and support our Nation's creators.

The arts can educate. To build vaccine confidence and communicate the benefits of vaccination in creative and culturally relevant ways, my Administration has partnered with artists and cultural icons to encourage Americans of all ages and from all corners of our Nation to get vaccinated. In this way, the arts can help us put an end to COVID-19. Thanks to the progress we are making with people getting vaccinated, tens of millions of Americans can go back to plays, concerts, and the movies. The arts can also heal Americans, from those who have suffered the traumas of loss or isolation during the pandemic to veterans and service members returning from war.

The pandemic has further revealed to us deep and unacceptable inequities in health care, education, and justice. The arts and humanities reveal the depths of these inequities and help us have the conversations and address the challenges that can be difficult to confront. The arts help us express and process our hurt and outrage as well as our joy and wonder—to better understand the experiences of our neighbors. By supporting and showcasing the creativity and experiences of those that have too often been discounted, we can advance our realization of a society that prioritizes equity and empathy.

This October, as we celebrate National Arts and Humanities Month, let us turn to the arts and humanities as a way to help America heal and grow. Let us build back better by ensuring that our cultural workers and creators are back at work and thriving. Let us ensure that everyone in America—regardless of race, geography, ability, and socioeconomic status—has equal and unrestricted access to the arts and humanities, and the opportunities they afford.

NOW, THEREFORE, I, JOSEPH R. BIDEN JR., President of the United States of America, by virtue of the authority vested in me by the Constitution and the laws of the United States, do hereby proclaim October 2021 as National Arts and Humanities Month. I call upon the people of the United States to observe this month with appropriate programs, ceremonies, and activities.

IN WITNESS WHEREOF, I have hereunto set my hand this thirtieth day of September, in the year of our Lord two thousand twenty-one, and of the Independence of the United States of America the two hundred and forty-sixth.

[FR Doc. 2021-21884

Filed 10-4-21; 11:15 am]

Billing code 3395-F2-P